ENVIRONMENTAL PROTECTION AGENCY

[EPA-R04-OAR-2006-0584; FRL-8444-4]

Adequacy Status of the Bi-State Louisville 8-Hour Ozone Motor Vehicle Emission Budgets for Transportation Conformity Purposes

AGENCY: Environmental Protection Agency (EPA).

ACTION: Notice of adequacy.

SUMMARY: In this notice, EPA is notifying the public that we have found that the Motor Vehicle Emissions Budgets (MVEBs) in Kentucky's bi-state Louisville 8-Hour Ozone Maintenance State Implementation Plan (SIP), submitted on September 29, 2006, by the Kentucky Division of Air Quality (KDAQ), are adequate for transportation conformity purposes. As a result of EPA's finding, the bi-state Louisville area must use the MVEBs from the September 29, 2006, bi-state Louisville 8-Hour Ozone Maintenance SIP for future conformity determinations for the 8-hour ozone standard. In a separate rulemaking, EPA has already approved these MVEBs. These MVEBs are identical to the MVEBs established for this area in the Indiana SIP.

DATES: These MVEBs were effective the date of publication (July 5, 2007) for the final rulemaking.

FOR FURTHER INFORMATION CONTACT: Lynorae Benjamin, Environmental Engineer, U.S. Environmental Protection Agency, Region 4, Air Planning Branch, Air Quality Modeling and Transportation Section, 61 Forsyth Street, SW, Atlanta, Georgia 30303. Ms. Benjamin can also be reached by telephone at (404) 562-9040, or via electronic mail at benjamin.lynorae@epa.gov. The finding is available at EPA's conformity Web site: http://www.epa.gov/otaq/stateresources/transconf/currsips.htm.

SUPPLEMENTARY INFORMATION:

Background

This notice is simply an announcement of a finding that EPA has already made. EPA Region 4 sent a letter to KDAQ on June 18, 2007, stating that the MVEBs in Kentucky's SIP, submitted on September 29, 2006, are adequate. The bi-state Louisville 8-hour ozone nonattainment area is comprised of the following five counties: Bullitt, Oldham and Jefferson counties in Kentucky and Clark and Floyd counties in Indiana. EPA's adequacy comment period for Kentucky's SIP ran from April 27, 2007, through May 29, 2007. During EPA's adequacy comment period no comments regarding the adequacy of the MVEBs were received. This finding has also been announced on EPA's conformity Web site: http://www.epa.gov/otaq/stateresources/transconf/pastsips.htm. The adequate MVEBs are provided in the following table:

Bi-State Louisville 8-Hour Ozone MVEBs
[Tons per day]
| 2003 | 2020
VOC | 40.97 | 22.92
NOX | 95.51 | 29.46

EPA has already approved these MVEBs in a separate rulemaking (72 FR 36601, July 5, 2007), and is providing this notice for informational purposes.

Transportation conformity is required by section 176 (c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEBs are adequate for transportation conformity purposes are outlined in 40 Code of Federal Regulations 93.118(e)(4). We have described the process for determining the adequacy of submitted SIP budgets in our July 1, 2004, final rulemaking entitled, “ Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it also should not be used to prejudge EPA's ultimate approval of the SIP. Even if EPA finds the MVEBs adequate, the Agency may later determine that the SIP itself is not approvable.

Authority: 42 U.S.C. 7401 et seq.

Dated: June 25, 2007.
Russell L. Wright, Jr.,
Acting Regional Administrator, Region 4.

[FR Doc. E7-14316 Filed 7-23-07; 8:45 am]

BILLING CODE 6560-50-P